FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR Part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The application also will be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States. Additional information on all bank holding companies may be obtained from the National Information Center website at www.ffiec.gov/nic/.

Unless otherwise noted, comments regarding each of these applications must be received at the Reserve Bank indicated or the offices of the Board of Governors not later than February 6, 2003.

A. Federal Reserve Bank of New York (Betsy Buttrill White, Senior Vice President) 33 Liberty Street, New York, New York 10045-0001:

1. Mizuho Financial Group, Tokyo, Japan; become a bank holding company by acquiring Mizuho Holdings, Inc., Tokyo, Japan, and thereby indirectly acquire ownership in Mizuho Corporate Bank of California, Los Angeles, California; Mizuho Corporate Bank (USA), New York, New York, and Mizuho Trust & Banking Co. (USA), New York, New York.

In connection with this application, Mizuho Asset Trust & Banking Co., Ltd., Tokyo, Japan; has applied to acquire 100 percent of the voting shares of Mizuho Trust & Banking Co., Ltd. (USA), New York, New York, and Mizuho Trust & Banking Co., Ltd., Tokyo, Japan.

In connection with these applications, Applicant also has applied to acquire the nonbanking companies to Mizuho Holdings, Inc., including Mizuho Capital Markets Corporation, New York, New York; Mizuho Securities USA Inc., Hoboken, New Jersey; The Bridgeford Group (NY), Inc., New York, New York; DLIBJ Asset Management U.S.A., Inc., New York, New York, and Shinko Securities (USA), Inc., New York, New York, and thereby engage in extending credit and servicing loans, pursuant to section 225.28(b)(1) of Regulation Y; activities related to extending credit, pursuant to section 225.28(b)(2) of Regulation Y; providing leasing services, pursuant to section 225.28(b)(3) of Regulation Y; owning, controlling, or operating an industrial bank, pursuant to section 225.28(b)(4) of Regulation Y; performing trust company functions, pursuant to section 225.28(b)(5) of Regulation Y; providing investment and financial advisory services, pursuant to section 225.28(b)(6) of Regulation Y; providing securities brokerage, riskless principal, private placement, futures commission merchant, and other agency transactions services, pursuant to section 225.28(b)(7)(i)(v) of Regulation Y; underwriting and dealing in government obligations and money market instruments in which state member banks may underwrite and deal under 12 U.S.C. sections 335 and 24(7), and investing and trading activities, pursuant to section 225.28(b)(8)(i) and (ii) of Regulation Y; providing management consulting services, pursuant to section 225.28(b)(9) of Regulation Y; engaging in specific insurance agency activities through a subsidiary that engaged in such activities on May 1, 1982, pursuant to section 225.28(b)(11)(v) of Regulation Y; community development activities, pursuant to section 225.28(b)(12) of Regulation Y; and in data processing and transmission activities, pursuant to section 225.28(b)(14) of Regulation Y.

2. First Bancorp, San Juan, Puerto Rico; to acquire up to 9.9 percent of the common stock of PanAmerican Bancorp, Hollywood, Florida, and thereby indirectly acquire voting shares of PanAmerican Bank, Hollywood, Florida.

B. Federal Reserve Bank of Chicago (Phillip Jackson, Applications Officer) 230 South LaSalle Street, Chicago, Illinois 60690-1414:

1. Amtrust, Inc., Dubuque, Iowa; to acquire 9.9 percent of the voting shares of United American Bank, San Mateo, California, a de novo bank in organization.

C. Federal Reserve Bank of St. Louis (Randall C. Sumner, Vice President) 411 Locust Street, St. Louis, Missouri 63166-2034:

1. Bank of Mulberry Employee Stock Ownership Trust, Mulberry, Arkansas, and its subsidiary, ACME Holding Company, Inc., Mulberry, Arkansas, to acquire 81.65 percent of the voting shares of Madison Corporation, Little Rock, Arkansas, and thereby indirectly acquire voting shares of Madison Bank & Trust Company, Kingston, Arkansas.

E. Federal Reserve Bank of Minneapolis (Richard M. Todd, Vice President and Community Affairs Officer) 90 Hennepin Avenue, Minneapolis, Minnesota 55480-0291:

1. Finlayson Bancshares, Inc., Finlayson, Minnesota; to acquire 100 percent of the voting shares of Floodwood Agency, Inc., Duluth, Minnesota, and thereby indirectly acquire voting shares of First State Bank of Floodwood, Floodwood, Minnesota.

Board of Governors of the Federal Reserve System, January 7, 2003.
Robert deV. Frierson,
Deputy Secretary of the Board.

[FR Doc. 03-567 Filed 1-10-03; 8:45 am]

BILLING CODE 6210-01-S